DEPARTMENT OF AGRICULTURE

Agricultural Research Service, Cooperative State Research, Education, and Extension Service

Solicitation of Input From Stakeholders on Research, Education and Extension Programs Related to Food Safety Administered by the Cooperative State Research, Education, and Extension Service and the Agricultural Research Service

AGENCIES: Cooperative State Research, Education, and Extension Service and Agricultural Research Service, USDA.

ACTION: Notice of stakeholders' listening session on food safety research priorities.

SUMMARY: Section 102(b) of the Agricultural Research, Extension, and Education Reform Act of 1998 (AREERA) (7 U.S.C. 7612) requires the Cooperative State Research, Education, and Extension Service (CSREES) and the Agricultural Research Service (ARS) in establishing priorities for agricultural research, extension, and education activities conducted or funded by CSREES and ARS to solicit and consider input and recommendations from persons who conduct or use agricultural research, extension, or education. As part of the Agencies' ongoing stakeholder input processes, CSREES and ARS are soliciting input and comments on the top food safety research priorities of partners and stakeholders. As part of this effort, CSREES and ARS are planning to conduct a “Stakeholders' Listening Session on Food Safety Research Priorities” in Denver, Colorado.

Dates and Addresses: The listening session will be held on Monday, June 30, 2003, from 8:30 a.m. to 5 p.m. at the Radisson Hotel Denver Stapleton Plaza; 3333 Quebec Street; Denver, CO 80207. Attendees must make their own hotel arrangements.

To aid participants in scheduling their attendance, the following schedule is anticipated for the listening session:

8:30 a.m.-9 a.m. Introductory Remarks and Background.

9 a.m.-12 p.m. Scheduled 5-Minute Comment Periods.

1 p.m.-5 p.m. Scheduled 5-Minute Comment Periods.

Persons interested in submitting comments but unable to attend should submit written presentations to be received by 5 p.m. e.d.t. July 14, 2003. Send written presentations to Dr. Pat Kendall at the address below.

FOR FURTHER INFORMATION CONTACT: All those intending to attend and make oral presentations at this meeting are required to pre-register. A List of Participants, including all those who have pre-registered, will be available at the Listening Session. Participants may pre-register by contacting Dr. Pat Kendall at (970) 491-7334, by fax at (970) 491-7252 or by e-mail to foodnutr@coop.ext.colostate.edu or by registering on line at www.cahs.colostate.edu/fshn/foodsafety/.

SUPPLEMENTARY INFORMATION:

Purpose of This Listening Session

The purpose of this Listening Session is to allow CSREES and ARS partners and stakeholders an opportunity to identify up to five food safety research priorities requiring increased attention over the next five years. All oral presentations should follow the following format:

(1) Provide a clear description of up to five food safety priorities;

(2) Describe the current state of affairs for each priority; and

(3) Indicate where the organization/agency would like to be in five years in regard to each priority.

ARS and CSREES are seeking comments on research priorities related to food safety topics in meat and poultry and fresh fruits and vegetables. Comments are solicited on such subjects including, but not limited to, pre- and post-harvest pathogen reduction, mycotoxins, residues, poisonous plants, good manufacturing practices, worker education and antibiotic resistance. The food safety research priorities identified by partners and stakeholders will provide valuable input for USDA food safety agencies. National Program Leaders from CSREES and ARS will conduct a series of follow-up meetings to develop national and agency-wide strategies for working with partners and stakeholders to help them achieve their 5-year food safety research goals.

Making Reservations To Attend This Listening Session

When making a reservation for a 5-minute oral comment period, participants should provide a title for their presentation. More time may be available in the comment session, depending on the number of people wishing to make a presentation. Reservations will be confirmed on a first-come, first-served basis. The final 30 minutes of the Listening Session will be reserved for unscheduled participants wishing to make 5-minute presentations. Participants who require a sign language interpreter or other special accommodations should contact Dr. Pat Kendall as directed above.

All those making oral presentations at the meeting are required to submit the text of their written presentations. Those unable to attend the meeting may also submit written presentations. Written presentations will be accepted through July 14, 2003. Written presentations may be submitted for the record by e-mailing them to foodnutr@coop.ext.colostate.edu or by mailing them to: CSREES/ARS Listening Session; c/o Dr. Pat Kendall; Colorado State University; Department of Food Science and Human Nutrition-1571; Fort Collins, CO 80523-1571. Please provide three copies of the written presentations. Presentations also may be faxed to Dr. Kendall at (970) 491-7252.

Information gathered from the Listening Session will be available for review on the CSREES Web page (http://www.reeusda.gov).

Background on Listening Sessions and CSREES Programs

Section 102(b) of AREERA (7 U.S.C. 7612) requires that CSREES and ARS, in establishing priorities for agricultural research, extension, and education activities conducted or funded by CSREES and ARS, solicit and consider input and recommendations from persons who conduct or use agricultural research, extension, or education. As part of this ongoing effort, CSREES and ARS conduct listening sessions to solicit input and comments on the effectiveness of the existing agricultural research, education and extension programs administered by CSREES and ARS in meeting current and future challenges in the food and agricultural sciences.

Section 1402 of the National Agricultural Research, Extension, and Teaching Policy Act of 1977 (NARETPA), 7 U.S.C. 3101, specifies that the purposes of agricultural research, extension, and education are to (1) enhance the competitiveness of the United States agriculture and food industry in an increasingly competitive world environment; (2) increase the long-term productivity of the United States agriculture and food industry while maintaining and enhancing the natural resource base on which rural America and the United States agricultural economy depend; (3) develop new uses and new products for agricultural commodities, such as alternative fuels, and develop new crops; (4) support agricultural research and extension to promote economic opportunity in rural communities and to meet the increasing demand for information and technology transfer throughout the United States agriculture industry; (5) improve risk management in the United States agriculture industry; (6) improve the safe production and processing of, and adding of value to, United States food and fiber resources using methods that maintain the balance between yield and environmental soundness; (7) support higher education in agriculture to give the next generation of Americans the knowledge, technology, and applications necessary to enhance the competitiveness of United States agriculture; and (8) maintain an adequate, nutritious, and safe supply of food to meet human nutritional needs and requirements.

Section 1404 of NARETPA, 7 U.S.C. 3103, defines “Food and Agricultural Sciences” as meaning basic, applied, and developmental research, extension, and teaching activities in food and fiber, agricultural, renewable natural resources, forestry, and physical and social sciences, including activities relating to the following: (1) Animal health, production, and well-being, (2) plant health and production, (3) animal and plant germplasm collection and preservation, (4) aquaculture, (5) food safety, (6) soil and water conservation and improvement, (7) forestry, horticulture, and range management, (8) nutritional sciences and promotion, (9) farm enhancement, including financial management, input efficiency, and profitability, (10) home economics, (11) rural human ecology, (12) youth development and agricultural education, including 4-H clubs, (13) expansion of domestic and international markets for agricultural commodities and products, including agricultural trade barrier identification and analysis, (14) information management and technology transfer related to agriculture, (15) biotechnology related to agriculture, and (16) the processing, distributing, marketing, and utilization of food and agricultural products.

CSREES currently supports agricultural research, extension and education activities through a broad array of programs which includes both formula funded and competitively awarded grant programs. The formula funded programs include the agricultural research programs authorized under the Hatch Act (7 U.S.C. 361a et seq.) for the State Agricultural Experiment Stations; section 1445 of NARETPA (7 U.S.C. 3222) for the 1890 Land-Grant Institutions including Tuskegee University, and West Virginia State College; the McIntire-Stennis Cooperative Forestry Act (16 U.S.C. 582a et seq.); and section 1433 of NARETPA (7 U.S.C. 3195) for the Animal Health and Disease Research program. The agricultural extension programs are funded under section 3 of the Smith-Lever Act (7 U.S.C. 343) for the cooperative extension services at the 1862 Land-Grant Institutions; section 3(d) of the Smith-Lever Act (7 U.S.C. 343(d)) for targeted, national programs; and section 1444 of NARETPA (7 U.S.C. 3221) for the 1890 Land-Grant Institutions including Tuskegee University, and West Virginia State College. Section 534(a) of the Equity in Educational Land-Grant Status Act of 1994 (7 U.S.C. 301 note) authorizes funding for the 1994 Institutions to strengthen their teaching programs in food and agricultural sciences.

The CSREES competitive grant programs include the National Research Initiative authorized under section 2(b) of the Competitive, Special, and Facilities Research Grant Act (7 U.S.C. 450i); the Initiative for Future Agriculture and Food Systems authorized under section 401 of AREERA (7 U.S.C. 7621); the Integrated Research, Education, and Extension Competitive Grants Program authorized under section 406 of AREERA (7 U.S.C. 7626); the Food and Agricultural Sciences National Needs Graduate Fellowship Grants Program authorized under section 1417(b)(6) of NARETPA (7 U.S.C. 3152(b)(6)); the Higher Education Challenge Grants Program authorized under section 1417(b)(1) of NARETPA (7 U.S.C. 3152(b)(1)); the Secondary Agriculture Education Challenge Grants Program authorized under section 1417(j) of NARETPA (7 U.S.C. 3152(j)); and the Hispanic-Serving Institutions Education Grants Program authorized under section 1455 of NAREPTA (7 U.S.C. 3241). In addition, sections 535 and 536 of the Equity in Educational Land-Grant Status Act of 1994 (7 U.S.C. 301 note) authorize competitive capacity building and research grant programs for the 1994 Institutions. Further information about CSREES grant programs is available through the CSREES Web page at http://www.reeusda.gov as the above list of CSREES grant programs is not exhaustive.

A majority of the agricultural research, extension, and education activities funded by CSREES are conducted through the 1862 Land-Grant Institutions which were established under the First Morrill Act (7 U.S.C. 301 et seq.); the 1890 Land-Grant Institutions under the Second Morrill Act (7 U.S.C. 321 et seq.); and the 1994 Institutions under the Equity in Educational Land-Grant Status Act of 1994 (7 U.S.C. 301 note).

The Agricultural Research Service (ARS) is the in-house research agency of the U.S. Department of Agriculture (USDA). Authority for ARS research is derived from the Department of Agriculture Organic Act of 1862 (7 U.S.C. 2201), which established the Department of Agriculture. The scope of USDA's agricultural research programs has been expanded and extended many times since the Department was first created. Today ARS has a workforce of approximately 8,000 employees including 2,000 scientists representing a wide range of disciplines. ARS conducts 1,200 research projects at over 100 locations across the country and at four overseas laboratories. The National Agricultural Library and the National Arboretum are also part of ARS.

ARS conducts research to develop and transfer solutions to agricultural problems of high national priority and provides information access and dissemination to (1) Ensure high-quality, safe food and other agricultural products, (2) assess the nutritional needs of americans, (3) sustain a competitive agricultural economy, (4) enhance the natural resource base and the environment, and (5) provide economic opportunities for rural citizens, communities, and society as a whole.

To achieve these objectives, ARS research projects are divided into National Programs. Currently, ARS research is organized into 22 National Programs which are described in detail on the ARS Web site at http://www.nps.ars.usda.gov/. ARS also works to ensure the timely transfer of new knowledge and technologies to potential users. ARS seeks to broaden public understanding of the value of agriculture and agricultural research to ensure the continued primacy of the U.S. agriculture in the 21st century. Program direction related specifically to food safety programs can be found at http://www.nps.ars.usda.gov/programs/programs.htm?NPNUMBER=108.

Done in Washington, DC, this 11th day of June, 2003.
Joseph J. Jen,
Under Secretary, Research, Education, and Economics.

[FR Doc. 03-15275 Filed 6-16-03; 8:45 am]

BILLING CODE 3410-22-P